DEPARTMENT OF HOMELAND SECURITY

Coast Guard

33 CFR Part 100

[Docket No. USCG-2017-0037]

Special Local Regulation; Black Warrior River; Tuscaloosa, AL

AGENCY: Coast Guard, DHS.

ACTION: Notice of enforcement of regulation.

SUMMARY: The Coast Guard will enforce a special local regulation on the Black Warrior River extending the entire width of the channel from mile marker 339.0 to mile marker 341.5 in Tuscaloosa, AL on March 25, 2017, to provide for the safety of life on navigable waterways during the Rowing Competition marine event. Our regulation for Recurring Marine Events in Captain of the Port Mobile Zone identifies the regulated area for this rowing event. During the enforcement period, no vessel may transit this regulated area without approval from the Captain of the Port or a designated representative.

DATES: The regulation in 33 CFR 100.801, Table 7, No. 4, will be enforced on March 25, 2017 from 7 a.m. until noon.

FOR FURTHER INFORMATION CONTACT: If you have questions about this notice of enforcement, call or email LT Fannie L. Wilks, Sector Mobile, Waterways Management Division, U.S. Coast Guard; telephone 251-441-5940, email Fannie.L.Wilks@uscg.mil.

SUPPLEMENTARY INFORMATION: The Coast Guard will enforce a special local regulation in 33 CFR 100.801, Table 7, number 4, from 7 a.m. until noon on March 25, 2017, for the Rowing Competition in Tuscaloosa, AL. This action is being taken to provide for the safety of life on navigable waterways during the rowing event. Our regulation for Recurring Marine Events in Captain of the Port Mobile Zone, § 100.801, specifies the location of the regulated area for this 2.5 mile-long rowing event. As specified in § 100.801 during the enforcement period, no vessel may transit this regulated area without approval from the Captain of the Port Mobile (COTP) or a COTP designated representative.

This notice of enforcement is issued under authority of 33 CFR 100.801 and 5 U.S.C. 552(a). In addition to this notice of enforcement in the Federal Register, the Coast Guard plans to provide notification of this enforcement period via the Local Notice to Mariners and Broadcast Notice to Mariners.

Dated: February 3, 2017.
J.H. Snowden,
Captain, U. S. Coast Guard, Captain of the Port Mobile.

[FR Doc. 2017-04150 Filed 3-2-17; 8:45 am]

BILLING CODE 9110-04-P